DEPARTMENT OF JUSTICE

Antitrust Division

Notice Pursuant to the National Cooperative Research and Production Act of 1993; Wireless Application Protocol Forum (“WAP”)

Notice is hereby given that, on July 9, 1999, pursuant to section 6(a) of the National Cooperative Research and Production Act of 1993, 15 U.S.C. 4301 et seq. (“the Act”), Wireless Application Protocol Forum (“WAP”) has filed written notifications simultaneously with the Attorney General and the Federal Trade Commission disclosing changes in its membership status. The notifications were filed for the purpose of extending the Act's provisions limiting the recovery of antitrust plaintiffs to actual damages under specified circumstances. Specifically, ASL, Bristol, United Kingdom; AU-System Mobile AB, Stockholm, SWEDEN; Baltimore Technologies, Dublin, Ireland; BEA WebXpress;, San Francisco, CA; Cap Gemini, Puteaux, Cedex, France; Digital Mobility Ltd., London, United Kingdom; East Digifone, Dublin, Ireland; Hitachi Ltd., Tokyo, Japan; Japan Telecom Ltd., Tokyo, Japan; Lexacom Inc., Montreal, Quebec, Canada; MapQuest.com Inc., Mountville, PA; Merita Bank Plc, Merita, Finland; Microsoft, Redmond, WA; Mobile Services Group, Irving, TX; Orange Communications SA, Lausanne, Switzerland; Peramon Technology Ltd., Reading, United Kingdom; Razorfish, Inc., Helsinki, Finland; Sun Microsystems, Palo Alto, CA; TAN TAU Software Inc., Utrecht, The Netherlands; Telecom Wireless Solutions, Alpharetta, GA; UBS, Zurich, Switzerland; Usha Communication Technology, Portland, OR; WapIT Ltd., Helsinki, Finland; and Wireless Knowledge, San Diego, CA have been added as parties to this venture.

No other changes have been made in either the membership or planned activity of the group research project. Membership in this group research project remains open, and Wireless Application Protocol Forum (“WAP”) intends to file additional written notification disclosing all changes in membership.

On March 18, 1998, Wireless Application Protocol Forum (“WAP”) filed its original notification pursuant to section 6(a) of the Act. The Department of Justice published a notice in the Federal Register pursuant to section 6(b) of the Act on December 31, 1998 (63 FR 72333).

The last notification was filed with the Department on April 6, 1999. A notice has not yet been published in the Federal Register.

Constance K. Robinson,
Director of Operations Antitrust Division.

[FR Doc. 00-10603 Filed 4-27-00; 8:45 am]

BILLING CODE 4410-11-M